DEPARTMENT OF HEALTH AND HUMAN SERVICES

Centers for Disease Control and Prevention

[30Day-52-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project

NCHS Technology and Aging Pilot Survey—New—National Center for Health Statistics (NCHS), Centers for Disease Control and Prevention (CDC). Recent Federal policy initiatives have targeted the removal of environmental barriers and increased access to assistive and universally designed technologies in order to increase participation in major life activities by persons of all ages with disabilities. Yet, few statistics are available to quantify the potential demand for assistive technologies and no criteria exist to evaluate the potential impact of broadened access.

CDC is seeking OMB approval to cognitively test and pilot a survey instrument that collects information on disabled persons' access to, and use of, assistive technologies and environmental modifications that can be implemented in national health surveys. This information will help policy makers and scientists understand the interface among disability, assistive devices, and environmental modifications. Through a cooperative agreement with the National Institute on Aging, the Office of the Assistant Secretary for Planning and Evaluation has funded researchers at the Polisher Research Institute and Johns Hopkins University to develop the new measures to be tested. The testing will be conducted by the National Center for Health Statistics with funding from the Office of the Assistant Secretary for Planning and Evaluation, Department of Health and Human Services.

Approximately 300 interviews will be conducted with adults with disabilities living in the community. These interviews will be 45 minutes in length. To the extent possible, different modes of administration will be utilized (e.g., in-person, telephone, or mixed) and racially diverse samples of persons with disabilities in both rural and urban settings will be selected to maximize the sensitivity of the instrument across diverse populations. The estimated annualized burden is 58 hours.

Respondents | Number of respondents | Number of responses per respondent | Average burden per response (in hours)
Individuals Age 50+ | 100 | 1 | 35/60

Dated: May 24, 2004.
Joseph E. Salter,
Acting Director, Management Analysis and Services Office, Centers for Disease Control and Prevention.

[FR Doc. 04-12231 Filed 5-28-04; 8:45 am]

BILLING CODE 4163-18-P